DEPARTMENT OF JUSTICE

Notice of Lodging of Consent Decree Pursuant to the Comprehensive Environmental Response, Compensation, and Liability Act

In accordance with Departmental policy, 28 CFR 50.7, notice is hereby given that a proposed consent decree in United States v. NCR Corporation and Allfirst Financial Center, N.A., Civil Action No. 01:593-SLR, was lodged with the United States Court for the District of Delaware on August 31, 2001.

The proposed partial consent decree pertains to the NCR Superfund Site (“Site”), located near Millsboro, Delaware. The United States has sued two defendants pursuant to section 107 of the Comprehensive Environmental Response, Compensation, and Liability Act (“CERCLA”), 42 U.S.C. 9607, to recover past and interim response costs incurred at the Site. The two defendants have agreed to a settlement memorialized in the consent decree. In the settlement, the defendants agree to pay $769,000 for reimbursement of past response costs and $29,500 for interim response costs expended by the Environmental Protection Agency in its oversight of the cleanup at the Site. In addition, the defendants agree to reimburse $3,769.99 to the state environmental agency Delaware Department of Natural Resources and Environmental Control (“DNREC”).

The Department of Justice will receive, for a period of thirty (30) days from the date of this publication, comments relating to the proposed consent decree. Comments should be addressed to the Assistant Attorney General for the Environment and Natural Resources Division, Department of Justice, Washington, DC 20530, and should refer to United States v. NCR Corporation et al., DOJ Ref. #90-11-2-749/1.

The proposed consent decree may be examined at the office of the United States Attorney, District of Delaware, 1201 N. Market Street, Wilmington, DE; the Region III Office of the Environmental Protection Agency, 1650 Arch St., Philadelphia, PA 19103. A copy of the proposed consent decree may be obtained by mail from the Consent Decree Library, PO Box 7611, U.S. Department of Justice, Washington, DC 20044-7611. In requesting a copy, please enclose a check in the amount of $5.75 (25 cents per page reproduction cost) payable to the Consent Decree Library.

Robert Brook,
Assistant Section Chief, Environmental Enforcement Section, Environment and Natural Resources Division.

[FR Doc. 01-28568 Filed 11-14-01; 8:45 am]

BILLING CODE 4410-15-M